DEPARTMENT OF HOMELAND SECURITY

Federal Emergency Management Agency

[Docket ID: FEMA-2017-0028; OMB No. 1660-0058]

Agency Information Collection Activities: Proposed Collection; Comment Request; Fire Management Assistance Grant Program.

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the Fire Management Assistance Grant Program.

DATES: Comments must be submitted on or before December 11, 2017.

ADDRESSES: To avoid duplicate submissions to the docket, please use only one of the following means to submit comments:

(1) Online. Submit comments at www.regulations.gov under Docket ID FEMA-2017-0028. Follow the instructions for submitting comments.

(2) Mail. Submit written comments to Docket Manager, Office of Chief Counsel, DHS/FEMA, 500 C Street SW., 8NE., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Allen Wineland, FMAG Program Manager, Office of Response & Recovery, FEMA, (202) 702-1472 for additional information. You may contact the Records Management Division for copies of the proposed collection of information at email address: FEMA-Information-Collections-Management@fema.dhs.gov.

SUPPLEMENTARY INFORMATION: The information collection is required for Fire Management Assistance Grant Program (FMAGP) eligibility determinations, grants management, and compliance with other federal laws and regulations. FEMA's regulations, at 44 CFR part 204, specify the information collections necessary to facilitate the provision of assistance under the FMAGP. FMAGP was established under Section 420 of the Robert T. Stafford Disaster Relief and Emergency Assistance Act, 42 U.S.C. 5187, as amended by section 303 of the Disaster Mitigation Act of 2000, and authorizes the President to provide assistance to any State or local government for the mitigation, management, and control of any fire on public or private forest land or grassland that threatens such destruction as would constitute a major disaster.

Collection of Information

Title: Fire Management Assistance Grant Program.

Type of Information Collection: Extension, without change, of a currently approved information collection.

OMB Number: 1660-0058.

FEMA Forms: FEMA Form 078-0-1, Request for Fire Management Assistance Declaration; FEMA Form 089-0-24, Request for Fire Management Sub-grant; FEMA Form 078-0-2, Principal Advisor's Report.

Abstract: The information collection is required to make grant eligibility determinations for the Fire Management Assistance Grant Program (FMAGP). These eligibility-based grants and subgrants provide assistance to any eligible State, Indian tribal government, or local government for the mitigation, management, and control of a fire on public or private forest land or grassland that is threatening such destruction as would constitute a major disaster. The data/information gathered in the forms is used to determine the severity of the threatening fire, current and forecast weather conditions, and associated factors related to the fire and its potential threat as a major disaster.

Affected Public: State, local, or Tribal Government.

Number of Respondents: 178.

Number of Responses: 553.

Estimated Total Annual Burden Hours: 811 hours.

Estimated Total Annual Respondent Cost: The estimated annual cost to respondents for the hour burden is $56,281.

Estimated Respondents' Operation and Maintenance Costs: There are no annual costs to respondents operations and maintenance costs for technical services.

Estimated Respondents' Capital and Start-Up Costs: There is no annual start-up or capital costs.

Estimated Total Annual Cost to the Federal Government: The cost to the Federal Government is $612,372.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Tammi Hines,
Records Management Program Chief, Mission Support, Federal Emergency Management Agency, Department of Homeland Security.

[FR Doc. 2017-22017 Filed 10-11-17; 8:45 am]

BILLING CODE 9111-23-P